DEPARTMENT OF THE INTERIOR

National Park Service

[NPS-WASO-NRNHL-DTS#-28932; PPWOCRADI0, PCU00RP14.R50000]

National Register of Historic Places; Notification of Pending Nominations and Related Actions

AGENCY: National Park Service, Interior.

ACTION: Notice.

SUMMARY: The National Park Service is soliciting comments on the significance of properties nominated before September 14, 2019, for listing or related actions in the National Register of Historic Places.

DATES: Comments should be submitted by October 15, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before September 14, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CONNECTICUT

Fairfield County

Waveny. Roughly bounded by Lapham, Old Stamford & Farm Rds. and Merritt Pkwy.; New Canaan, SG100004543

Middlesex County

Middle Haddam School, 12 Schoolhouse Ln., East Hampton, SG100004545

New Haven County

Short Beach Historic District, Roughly bounded by Shore Dr., Beckett & Clarke Aves., Bungalow & Little Bay Lanes, Court, Pentecost and Bristol Sts., Branford, SG100004544

IOWA

Black Hawk County

Wild Historic District, 423, 501 & 509 W 1st St., Cedar Falls, SG100004546

NORTH DAKOTA

McLean County

Fort Buford Stage Road, Fort Buford Stage Rd., Washburn, SG100004540

Mountrail County

Wabek Consolidated School, 3825 64th Ave. NW, Plaza, SG100004541

OHIO

Franklin County

Winders Motor Sales Company, 182 E Long St., Columbus, SG100004542

Additional documentation has been received for the following resources:

WISCONSIN

Iowa County

Mineral Point Historic District, Roughly bounded by Ross, Shake Rag, 9th, and Bend Sts., Mineral Point, AD71000037

La Crosse County

LaCrosse Commercial Historic District, Roughly bounded by Jay St., Second St. S, State St. and Fifth Ave. S, LaCrosse, AD94001064

Rock County

West Milwaukee Street Historic District, Roughly bounded by Wall, River, Court, and Academy Sts., Janesville, AD90000790

Nomination submitted by Federal Preservation Officer:

The State Historic Preservation Officer reviewed the following nomination and responded to the Federal Preservation Officer within 45 days of receipt of the nomination and supports listing the property in the National Register of Historic Places.

OKLAHOMA

Comanche County

Holy City of the Wichitas Historic District, 62 Holy City Rd., Medicine Park vicinity, SG100004547

Authority: Section 60.13 of 36 CFR part 60

Dated: September 17, 2019.
Julie H. Ernstein, Ph.D., RPA
Supervisory Archeologist, National Register of Historic Places/National Historic Landmarks Program.

[FR Doc. 2019-21143 Filed 9-27-19; 8:45 am]

BILLING CODE 4312-52-P